DEPARTMENT OF THE INTERIOR

National Park Service

Notice of Inventory Completion: U.S. Department of Agriculture, Forest Service, Wallowa—Whitman National Forest, Hells Canyon National Recreation Area, Baker City, OR and Thomas Burke Memorial State Museum of Washington, University of Washington, Seattle, WA

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Wallowa—Whitman National Forest, Baker City, OR and in the possession of the Thomas Burke Memorial State Museum of Washington (Burke Museum), University of Washington, Seattle, WA. The human remains and associated funerary objects were removed from Idaho County, ID and Wallowa County, OR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum and Wallowa—Whitman National Forest professional staff in consultation with representatives of the Confederated Tribes of the Colville Reservation, Washington; Confederated Tribes of the Umatilla Reservation, Oregon; and Nez Perce Tribe of Idaho.

In 1955—1956, human remains representing a minimum of one individual were removed from 35—WA—13 in Wallowa County, OR, from a cairn burial by George L. Coale, a University of Washington Anthropology student. The human remains were accessioned by the Burke Museum in 1987 (Burke Accn. #1987—12). No known individual was identified. The three associated funerary objects are three stone spalls.

In 1955—1956, human remains representing a minimum of one individual were removed from 35—WA—17 in Wallowa County, OR, from a cairn burial by Mr. Coale. The human remains were accessioned by the Burke Museum in 1987 (Burke Accn. #1987—12). No known individual was identified. The one associated funerary object is a single stone spall.

In 1955, human remains representing a minimum of one individual were removed from 10—ID—12 in Idaho County, ID, by a University of Washington Field Expedition led by Mr. Coale and supervised by Dr. Douglas Osborne. The human remains were transferred to the Burke Museum in 1987 (Burke Accn. #1987—12). No known individual was identified. The 60 associated funerary objects are 42 non-human mammal bones, 15 flakes, 2 pieces of stone shatter, and 1 lot of shell.

In 1955, human remains representing a minimum of two individuals were removed from 10—ID—13 in Idaho County, ID, by a University of Washington Field Expedition led by Mr. Coale and supervised by Dr. Osborne. The human remains were transferred to the Burke Museum in 1987 (Burke Accn. #1987—12). No known individuals were identified. The seven associated funerary objects are one bag of charcoal, two shell fragments, and four unmodified stones.

In 1955, human remains representing a minimum of one individual were removed from 10-ID-25 in Idaho County, ID, by a University of Washington Field Expedition led by Mr. Coale and supervised by Dr. Osborne. The human remains were transferred to the Burke Museum in 1987 (Burke Accn. #1987—12). No known individual was identified. The one associated funerary object is a shell pendant.

The human remains and associated funerary objects are part of the Mt. Sheep Pleasant Valley Reservoir Survey project. All five sites are located on U.S. Forest Service property in the Snake River Canyon. The archeology, ethnography and history of the Snake River Canyon, including those areas from which the human remains were removed, demonstrates a nearly continuous use of the area with numerous adaptations through time that lead inexorably to the occupation and utilization by a people who became identified in historic times as the Nee-Me—Poo or Nez Perce, the Weyiletpuu or Cayuse, Imatalamlama or Umatilla, and Waluulapam or Walla Walla. The oral traditions and oral histories of these groups place their people in the canyon “since time immemorial.” Descendants of the Cayuse, Umatilla, and Walla Walla are members of the Confederated Tribes of the Umatilla Reservation, Oregon. Descendants of the Nez Perce are members of the Confederated Tribes of the Colville Reservation, Washington; Confederated Tribes of the Umatilla Reservation, Oregon; and Nez Perce Tribe of Idaho.

Officials of the Wallowa-Whitman National Forest have determined that, pursuant to 25 U.S.C. 3001 (9-10), the human remains described above represent the physical remains of six individuals of Native American ancestry. Officials of the Wallowa-Whitman National Forest also have determined that, pursuant to 25 U.S.C. 3001 (3)(A), the 72 objects described above are reasonably believed to have been placed with or near individual human remains at the time of death or later as part of the death rite or ceremony. Lastly, officials of the Wallowa-Whitman National Forest also have determined that, pursuant to 25 U.S.C. 3001 (2), there is a relationship of shared group identity that can be reasonably traced between the Native American human remains and associated funerary object and the Confederated Tribes of the Colville Reservation, Washington; Confederated Tribes of the Umatilla Reservation, Oregon; and Nez Perce Tribe of Idaho.

Representatives of any other Indian tribe that believes itself to be culturally affiliated with the human remains and associated funerary objects should contact Jen Fitzpatrick, Customer Service Staff Officer, Wallowa-Whitman National Forest, 1550 Dewey Avenue, Baker City, OR 97814, telephone (541) 523-1222, before November 30, 2007. Repatriation of the human remains and associated funerary objects to the Confederated Tribes of the Colville Reservation, Washington; Confederated Tribes of the Umatilla Reservation, Oregon; and/or Nez Perce Tribe of Idaho may proceed after that date if no additional claimants come forward.

Wallowa-Whitman National Forest is responsible for notifying the Confederated Tribes of the Colville Reservation, Washington; Confederated Tribes of the Umatilla Reservation, Oregon; and Nez Perce Tribe of Idaho that this notice has been published.

Dated: October 1, 2007.
Sherry Hutt,
Manager, National NAGPRA Program.

[FR Doc. E7-21367 Filed 10-30-07; 8:45 am]

BILLING CODE 4312-50-S